GENERAL SERVICES ADMINISTRATION

[Notice-MY-2022-01; Docket No. 2022-0002; Sequence No. 33]

Office of Shared Solutions and Performance Improvement (OSSPI); Chief Acquisition Officers Council (CAOC); Senior Policy Operating Group's Procurement and Supply Chains Committee Outreach Session; Notification of Upcoming Public Meeting

AGENCY: Office of Government-wide Policy, General Services Administration (GSA).

ACTION: Meeting notice.

SUMMARY: The General Services Administration is providing notice of a public meeting on behalf of the Chief Acquisition Officers Council (CAOC) and the Senior Policy Operating Group's (SPOG) Procurement and Supply Chains Committee to build understanding and awareness about the anti-human trafficking requirements of the Federal Acquisition Regulation (FAR), share information about U.S. government tools and reporting to assist with compliance, and to discuss actions the Federal Government can take to achieve more effective implementation.

DATES: The SPOG Procurement and Supply Chains Committee will hold a web-based open public meeting on Tuesday, January 17th, from 1 p.m. to 3 p.m., Eastern Standard Time (EST).

ADDRESSES: The meeting will be accessible via webcast. Registrants will receive the webcast information before the meeting.

FOR FURTHER INFORMATION CONTACT: Shenaye Holmes, Senior Advisor-CAO Council, Office of Shared Solutions and Performance Improvement, GSA, phone: 202-213-2922 email: shenaye.holmes@gsa.gov

SUPPLEMENTARY INFORMATION:

Background

The National Action Plan to Combat Human Trafficking (available at: https://www.whitehouse.gov/wp-content/uploads/2021/12/National-Action-Plan-to-Combat-Human-Trafficking.pdf) Priority Action 1.3.1 calls on the Chief Acquisition Officers to support a public outreach session hosted by the SPOG Procurement and Supply Chains Committee for contracting companies, non-governmental organizations, international partners, associates of state, local, tribal, and territorial officials, and any interested parties to build understanding and awareness about the anti-trafficking requirements of the FAR. Policy officials from the SPOG will review recent efforts to combat human trafficking in the Federal supply chain and invite members of the public to provide input on ways to strengthen implementation of anti-trafficking requirements in Federal acquisition. Topics will include, but not be limited to the following: (1) experience with OMB Memorandum M-20-01, Anti-Trafficking Risk Management Best Practices & Mitigation Considerations, (2) trainings and educational opportunities for government and contractors, (3) using internal government findings, such as the Department of Labor's List of Products Produced by Forced or Indentured Child Labor, to analyze supply chains, and (4) developments in combating trafficking in supply chains that would be helpful to apply to federal procurement. Meeting Registration

The meeting is open to the public. The meeting will be accessible by webcast. Registration is required for web viewing. To register, go to: https://www.eventbrite.com/e/spog-procurement-and-supply-chains-committee-meeting-tickets-489698500397. Attendees must register by 5:00 p.m. EST, on Friday, January 13, 2023. All registrants will be asked to provide their name, affiliation, phone number, and email address. After registration, individuals will receive webcast access information via email. Additionally, using the registration page registrants will be able to submit questions for the Committee or whether they wish to present during the meeting.

Additionally, using the registration page, registrants will be able to submit questions for the Committee or whether they wish to present during the meeting.

Special Accommodations

For information on services for individuals with disabilities, or to request accommodation of a disability, please contact Shenaye Holmes at shenaye.holmes@gsa.gov at least 10 business days prior to the meeting to give GSA as much time as possible to process the request. Closed captioning and live ASL interpreter services will be available.

Shenaye Holmes,
Senior Advisor, Office of Shared Solutions and Performance Improvement, General Services Administration.

[FR Doc. 2022-28596 Filed 1-4-23; 8:45 am]

BILLING CODE 6820-14-P